EXPORT-IMPORT BANK OF THE U.S.

[Public Notice 114]

Agency Information Collection Activities: Proposed Collection; Comment Request, Marketing Fax Back Response Form

AGENCY: Export-Import Bank of the U.S.

ACTION: Notice and request for comments.

SUMMARY: The Export-Import Bank invites the general public and other Federal Agencies to comment on the proposed information collection, as required by the Paperwork Reduction Act of 1995. The Marketing Fax Back Response Form will be used to collect basic trade information about United States companies. This information will be provided to the Export-Import Bank's finance consultants nationwide to assist in providing counsel to exporters.

DATES: Comments must be received on or before July 14, 2009 to be considered.

ADDRESSES: Direct all comments and requests for additional information to Stephen Maroon, Export-Import Bank of the U.S., 811 Vermont Avenue, NW., Washington, DC 20571, (202) 565-3901, or stephen.maroon@exim.gov.

SUPPLEMENTARY INFORMATION:

Title and Form Number: Marketing Fax Back Response Form EIB 05-01.

OMB Number: 3048-.

Type of Review: Regular.

Need and Use: This form will provide basic trade information about U.S. Companies and will provide the Export-Import Bank's trade finance consultants nationwide the ability to provide counsel to exporters.

Affected Public: The form affects entities involved in the export of U.S. goods and services.

Estimated Annual Respondents: 1,500.

Estimated Time per Respondent: 5 minutes.

Estimated Annual Burden: 125 hours.

Frequency of Reporting or Use: Once.

BILLING CODE 6690-01-P

Dated: May 7, 2009.
Sharon A. Whitt,
Agency Clearance Officer.

[FR Doc. E9-11406 Filed 5-14-09; 8:45 am]

BILLING CODE 6690-01-C